SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before January 22, 2019.

ADDRESSES: Send all comments to Dena Moglia, Office of Entrepreneurial Development, Small Business Administration, 409 3rd Street SW, 6th Floor, Washington, DC 20416.

FOR FURTHER INFORMATION CONTACT: Dena Moglia, Senior Management & Program Analyst, 202-205-7034, dena.moglia@sba.gov, Curtis B. Rich, Management Analyst, 202-205-7030 curtis.rich@sba.gov.

SUPPLEMENTARY INFORMATION: In accordance with regulations and policy, the Small Business Development Centers (SBDC's) must provide SBA semi-annual financial and programmatic reports-outlining expenditures and accomplishments. The information collected will be used to monitor the progress of the program.

Summary of Information Collection

Title: “Federal Cash Transaction Report; Financial Status Report Program Income Report Narrative Program Report”.

Description of Respondents: SBDC Directors.

Form Number: 2113.

Annual Responses: 126.

Annual Burden: 7,308.

Curtis Rich,
Management Analyst.

[FR Doc. 2018-25519 Filed 11-21-18; 8:45 am]

BILLING CODE P